DEPARTMENT OF COMMERCE

International Trade Administration

[C-570-915]

Light-Walled Rectangular Pipe and Tube From the People's Republic of China: Preliminary Results and Preliminary Determination of No Shipments; 2022

AGENCY: Enforcement and Compliance, International Trade Administration, Department of Commerce.

SUMMARY: The U.S Department of Commerce (Commerce) is conducting the administrative review of the countervailing duty (CVD) order on light-walled rectangular pipe and tube (LWRPT) from the People's Republic of China (China). The period of review (POR) is January 1, 2022, through December 31, 2022. Commerce preliminarily finds that Hoa Phat Steel Pipe Company Limited (Hoa Phat) had no subject shipments of LWRPT and that Hoa Phat will be eligible to participate in the certification program previously established with respect to the CVD order on LWRPT from China. We invite interested parties to comment on these preliminary results.

DATES: Applicable September 13, 2024.

FOR FURTHER INFORMATION CONTACT: Christopher Hargett, AD/CVD Operations, Office II, Enforcement and Compliance, International Trade Administration, U.S. Department of Commerce, 1401 Constitution Avenue NW, Washington, DC 20230; telephone: (202) 482-4161.

SUPPLEMENTARY INFORMATION:

Background

On August 5, 2008, Commerce published in the Federal Register the CVD order on LWRPT from China.¹ On August 2, 2023, Commerce notified interested parties of the opportunity to request an administrative review of the Order.² On August 30, 2023, Hoa Phat requested that Commerce conduct an administrative review of its exports to determine whether those exports are covered by the CVD Order on LWPRT from China.³ In its review request, Hoa Phat further explained that it sought an administrative review so that Commerce would permit it to submit certifications to U.S. Customs and Border Protection (CBP) to properly declare the origin of the hot-rolled steel (HRS) that it used to produce the LWRPT it exported.⁴ On August 31, 2023, GS Global USA, Inc. (GS Global) requested that Commerce conduct an administrative review of Hoa Phat's exports.⁵

¹ See Light-Walled Rectangular Pipe and Tube from the People's Republic of China: Countervailing Duty Order, 73 FR 45405 (August 5, 2008) (Order).

² See Antidumping or Countervailing Duty Order, Finding, or Suspended Investigation; Opportunity To Request Administrative Review and Join annual Inquiry Service List, 88 FR 50840 (August 2, 2023).

³ See Hoa Phat Letter, “Request for Administrative Review,” dated August 30, 2023.

⁴ Id. As background, in Light-Walled Rectangular Pipe and Tube From the People's Republic of China: Preliminary Affirmative Determination of Circumvention of the Antidumping Duty and Countervailing Duty Orders, 88 FR 21985-21986 (April 12, 2023) (Preliminary Circumvention Determination), and accompanying Preliminary Decision Memorandum (PDM) at 4-6, Commerce preliminarily determined that Hoa Phat had failed to cooperate in the circumvention proceeding and applied facts available with adverse inferences to determine that Hoa Phat was not eligible to participate in the certification regime established in the circumvention proceeding. In the final determination, Commerce continued to find that Hoa Phat was ineligible to participate in the certification regime. See Light-Walled Rectangular Pipe and Tube from the People's Republic of China: Final Affirmative Determination of Circumvention of the Antidumping Duty and Countervailing Duty Orders, 88 FR 77283 (November 9, 2023) (Circumvention Final Determination), and accompanying Issues and Decision Memorandum (IDM) at Comment 3.

⁵ See GS Global Letter, “Request for Administrative Review” dated August 31, 2023.

Subsequently, we initiated an administrative review of the Order with respect to Hoa Phat.⁶

⁶ See Initiation of Antidumping and Countervailing Duty Administrative Reviews, 88 FR 71829 (October 18, 2023) (Initiation Notice).

On November 9, 2023, we published in the Federal Register the Circumvention Final Determination, in which we: (1) determined that certain LWRPT exported from the Socialist Republic of Vietnam (Vietnam) and entered into the United States was circumventing the Order and therefore is now covered by the Order; and (2) established a certification program to allow eligible producers and exporters of LWRPT exported from Vietnam to certify that entries of LWRPT exported from Vietnam are not subject to the Order.⁷ We also indicated that we would allow interested parties to request reviews of LWRPT shipped from Vietnam and suspended under the Order that entered during the upcoming anniversary month of the Order (i.e., August).⁸

⁷ See Circumvention Final Determination, 88 FR at 77284.

⁸ Id., 88 FR at 77285.

Due to the common prerequisite issues in the concurrent administrative reviews of the antidumping duty (AD) and CVD orders, i.e., the origin of the HRS used in Hoa Phat's production and/export of LWRPT and whether Hoa Phat is eligible to certify that origin with CBP, on March 11, 2024, Commerce notified all interested parties of its intent to address Hoa Phat's certification eligibility in the CVD administrative review in the context of the concurrent AD review of Hoa Phat and adopt the AD findings in the CVD review.⁹ Commerce also instructed all interested parties to file any future submissions that related to this issue on the record of both proceedings. Additionally, regarding previously filed submissions related to these issues that were only on the record of the AD administrative review, Commerce instructed all interested parties who filed such submissions to file those submissions on the record of the CVD administrative review.¹⁰

⁹ See Memorandum, “Notification of Procedure for Determining Certification Eligibility in Administrative Reviews of the Antidumping and Countervailing Duty Orders,” dated March 11, 2024 (Notification of Procedure Memorandum).

¹⁰ Id.

On April 12, 2024, Commerce extended the deadline for these preliminary results to August 30, 2024.¹¹ On July 22, 2024, Commerce tolled certain deadlines in this administrative proceeding by seven days.¹² The deadline for the preliminary results is now September 6, 2024.

¹¹ See Memorandum, “Extension of Deadline for Preliminary Results of Countervailing Duty Administrative Review,” dated April 12, 2024.

¹² See Memorandum, “Tolling of Deadlines for Antidumping and Countervailing Duty Proceedings,” dated July 22, 2024.

Scope of the Order

The merchandise subject to this Order is certain welded carbon quality light-walled steel pipe and tube, of rectangular (including square) cross section, having a wall thickness of less than 4 mm. The term carbon-quality steel includes both carbon steel and alloy steel which contains only small amounts of alloying elements. Specifically, the term carbon-quality includes products in which none of the elements listed below exceeds the quantity by weight respectively indicated: 1.80 percent of manganese, or 2.25 percent of silicon, or 1.00 percent of copper, or 0.50 percent of aluminum, or 1.25 percent of chromium, or 0.30 percent of cobalt, or 0.40 percent of lead, or 1.25 percent of nickel, or 0.30 percent of tungsten, or 0.10 percent of molybdenum, or 0.10 percent of niobium, or 0.15 percent vanadium, or 0.15 percent of zirconium. The description of carbon-quality is intended to identify carbon-quality products within the scope. The welded carbon-quality rectangular pipe and tube subject to this Order is currently classified under the Harmonized Tariff Schedule of the United States (HTSUS) subheadings 7306.61.50.00 and 7306.61.70.60. While HTSUS subheadings are provided for convenience and CBP's customs purposes, our written description of the scope of the Order is dispositive.

Methodology

For the preliminary results of this CVD review, Commerce is hereby adopting the preliminary finding and Preliminary Decision Memorandum issued in the concurrent AD administrative review only with respect to Hoa Phat. For a full description of the methodology underlying the results, see the Preliminary Decision Memorandum adopted by reference, in this CVD review.¹³ Commerce preliminarily found that Hoa Phat had no subject shipments of LWRPT and is eligible to participate in the previously established certification program.¹⁴ The AD Preliminary Decision Memorandum is a public document and is made available to the public via Enforcement and Compliance's Antidumping and Countervailing Duty Centralized Electronic Service System (ACCESS). ACCESS is available to registered users at http://access.trade.gov. In addition, a complete version of the AD Preliminary Decision Memorandum is available at https://access.trade.gov/public/FRNoticesListLayout.aspx.

¹³ See unpublished Federal Register Notice entitled, “Light-Walled Rectangular Pipe and Tube from the People's Republic of China: Preliminary Results and Partial Rescission of Antidumping Duty Administrative Review, and Preliminary Determination of No Shipments; 2022-2023,” dated concurrently with this notice, and accompanying PDM.

¹⁴ Id.

Thus, if our preliminary finding in the concurrent AD administrative review is unchanged in the final results, we will determine in the final results of this CVD review that Hao Phat will be eligible to participate in the certification program previously established with respect to the CVD Order on LWRPT from China as of the publication date of the final results.

Public Comment

Because Commerce intends to conduct verification of the questionnaire responses of Hoa Phat in the concurrent AD review, the results of which will be adopted in this CVD review, interested parties will be notified of the deadline for the submission of case briefs at a later date.¹⁵ The case briefs submitted in the AD and CVD reviews must be identical, and Commerce will consider all case brief arguments in the concurrent AD review. As noted above, Commerce intends to adopt the final findings in the concurrent AD proceeding in the final results of this CVD administrative review.

¹⁵ See 19 CFR 351.303 (for general filing requirements).

Assessment Rates

Upon issuance of the final results of this review, Commerce will determine, and CBP will assess, CVD duties on all appropriate entries covered by this review.¹⁶ We intend to instruct CBP to liquidate entries of LWRPT exported by Hoa Phat without regard to countervailing duties if these preliminary results are unchanged for the final results.

¹⁶ See 19 CFR 351.212(b)(1).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication of the final results of this administrative review for all shipments of the subject merchandise entered, or withdrawn from warehouse, for consumption on or after the publication date of the final results of review, as provided for by section 751(a)(2)(C) of the Act: (1) for Hoa Phat, the cash deposit rate will remain unchanged (i.e., 255.07 percent),¹⁷ unless the company satisfies the certification requirements in the Final Circumvention Determination; and (2) for all companies not subject to this review, CBP will continue to collect cash deposits of estimated countervailing duties at the all-others rate or the most recent company-specific rate applicable to the company, as appropriate. These deposit requirements, when imposed, shall remain in effect until further notice.

¹⁷ See Final Circumvention Determination.

Final Results of Review

Unless otherwise extended, Commerce intends to issue the final results of this administrative review, by adopting the findings in the concurrent AD review, within 120 days of publication of these preliminary results of review, pursuant to section 751(a)(3)(A) of the Act.

Notification to Interested Parties

This determination is issued and published in accordance with sections 751(a)(1) and 777(i)(1) of the Act and 19 CFR 351.221(b)(4).

Dated: September 6, 2024.
Abdelali Elouaradia,
Deputy Assistant Secretary for Enforcement and Compliance.

[FR Doc. 2024-20773 Filed 9-12-24; 8:45 am]

BILLING CODE 3510-DS-P